DEPARTMENT OF ENERGY

Federal Energy Regulatory Commission

Docket No. CP01-370-000

Williston Basin Interstate Pipeline Company and Frontier Gas Storage Company; Notice of Joint Application

May 29, 2001.

Take notice that on May 18, 2001, Williston Basin Interstate Pipeline Company (Williston Basin), P.O. Box 5601, Bismarck, North Dakota 58506-5601 and Frontier Gas Storage Company (Frontier), c/o Lord Securities Corporation, Two Wall Street, 19th Floor, New York, New York 10005 filed a Joint Abbreviated Application pursuant to Section 7(b) of the Natural Gas Act and Sections 157.7 and 157.18 of the Commission's Regulations for an order permitting and approving the abandonment of certificates.

Williston Basin and Frontier state that inasmuch as all gas previously owned by Frontier has been withdrawn from Williston Basin's storage fields as of April 3, 2001, and neither Williston Basin nor Frontier has any further need for the services provided by the other, Williston Basin and Frontier respectfully request abandonment of the certificates authorizing the services provided by Williston Basin pursuant to Rate Schedules X-9 and X-11 of its FERC Gas Tariff, Original Volume No. 2 and by Frontier pursuant to its FERC Gas Tariff, Original Volume Nos. 1 and 2, including most specifically Rate Schedule LVS-1. Williston Basin and Frontier further state they are the only parties to the certificates of public convenience and necessity proposed to be abandoned.

Any person desiring to be heard or to make any protest with reference to said application should on or before June 19, 2001, file with the Federal Energy Regulatory Commission (888 First Street, NE., Washington, DC 20426) a motion to intervene or a protest in accordance with the requirements of the Commission's Rules of Practice and Procedure (18 CFR 385.211) and the Regulations under the Natural Gas Act (18 CFR 157.10). All protests filed with the Commission will be considered by it in determining the appropriate action to be taken but will not serve to make the protestants parties to the proceeding.

Any person wishing to become a party to a proceeding or to participate as a party in any hearing therein must file a motion to intervene in accordance with the Commission's Rules.

Take further notice that, pursuant to the authority contained in and subject to the jurisdiction conferred upon the Federal Energy Regulatory Commission by Section 7 and 15 of the Natural Gas Act and the Commission's Rules of Practice and Procedure, a hearing will be held without further notice before the Commission or its designee on this application if no motion to intervene is filed within the time required herein, if the Commission on its review of the matter finds that permission and approval for the proposed abandonment are required by the public convenience and necessity. If a motion for leave to intervene is timely filed, or if the Commission on its own motion believes that a formal hearing is required, further notice of such hearing will be duly given.

Comments, protests, and interventions may be filed electronically via the internet in lieu of paper. See, 18 CFR 385.2001(a)(1)(iii) and the instructions on the Commission's web site at http://www.ferc.fed.us/efi/doorbell.htm.

Under the procedure herein provided for, unless otherwise advised, it will be unnecessary for Williston Basin and Frontier to appear or be represented at the hearing.

David P. Boergers,
Secretary.

[FR Doc. 01-13873 Filed 6-1-01; 8:45 am]

BILLING CODE 6717-01-M